DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Norwalk, Connecticut and Indianapolis, Indiana. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before January 18, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice follow:

1. Project name and location: Walk Bridge Replacement Project, Norwalk, Connecticut. Project sponsor: Connecticut Department of Transportation (CTDOT). Project description: The project consists of removing the existing railroad bridge structure and replacing it with two side-by-side 240-foot open-deck through truss vertical lift spans across the Norwalk River. Each would have separate mechanical and electrical equipment and controls so that each span can work independently of the other, or in unison as needed. Final agency actions: Section 4(f) determination; a Section 106 Memorandum of Agreement, dated May 25, 2017; project-level air quality conformity; and a Finding of No Significant Impact, dated July 17, 2017. Supporting documentation: Environmental Assessment, dated August 2016, and the July 6, 2017, Determination of Adequacy issued by the Connecticut Office of Policy and Management on the Record of Decision prepared by the Connecticut Department of Transportation in accordance with the Connecticut Environmental Policy Act (CEPA).

2. Project name and location: IndyGo Red Line Rapid Transit Project—Phase 1, Indianapolis, Indiana, and Marion County. Project Sponsor: Indiana Public Transportation Corporation (IndyGo). Project description: The project establishes a 13.1-mile long bus rapid transit (BRT) corridor with 28 stations; transit signal priority (TSP) at all 36 signalized intersections; minor curb realignments near stations and at intersections; removal or limiting 34 existing left turns (but including new U-turn locations for access to local businesses and destinations); and limited expansion of existing corridor right of way (ROW) along College Avenue and Meridian Street. Final agency actions: Section 4(f) de minimis impact determination, a Section 106 Memorandum of Agreement dated December 6, 2016, project-level air quality conformity, and a determination of the applicability of a Documented Categorical Exclusion pursuant to 23 CFR 771.118(d) dated October 19, 2016. Supporting documentation: Documented Categorical Exclusion checklist and supporting materials dated September, 2016.

Lucy Garliauskas,
Associate Administrator Planning and Environment.

[FR Doc. 2017-17539 Filed 8-18-17; 8:45 am]

BILLING CODE P